COMMITTEE FOR PURCHASE FROM PEOPLE WHO ARE BLIND OR SEVERELY DISABLED

Procurement List; Proposed Additions

AGENCY: Committee for Purchase From People Who Are Blind or Severely Disabled.

ACTION: Proposed additions to Procurement List.

SUMMARY: The Committee is proposing to add to the Procurement List products to be provided by the nonprofit agency employing persons who are blind or have other severe disabilities.

Comments Must be Received on or Before: 1/4/2010.

ADDRESSES: Committee for Purchase From People Who Are Blind or Severely Disabled, Jefferson Plaza 2, Suite 10800, 1421 Jefferson Davis Highway, Arlington, Virginia, 22202-3259.

FOR FURTHER INFORMATION CONTACT: Barry S. Lineback, Telephone: (703) 603-7740, Fax: (703) 603-0655, or email CMTEFedReg@AbilityOne.gov.

SUPPLEMENTARY INFORMATION:

This notice is published pursuant to 41 U.S.C 47(a)(2) and 41 CFR 51-2.3. Its purpose is to provide interested persons an opportunity to submit comments on the proposed action.

Addition

If the Committee approves the proposed additions, the entities of the Federal Government identified in this notice for the products will be required to procure the products listed below from the nonprofit agency employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will provide the products to the Government.

2. If approved, the action will result in authorizing small entities to provide the products to the Government.

3. There are no known regulatory alternatives which would accomplish the objectives of the Javits-Wagner-O'Day Act (41 U.S.C. 46-48c) in connection with the products proposed for addition to the Procurement List.

Comments on this certification are invited. Commenters should identify the statement(s) underlying the certification on which they are providing additional information.

End of Certification

The following products are proposed for addition to Procurement List for production by the nonprofit agency listed:

Products:

NSN: 7220-00-NIB-0382—36″x72″ Finger-tip Mat, Heavy-duty, Black.

NSN: 7220-00-NIB-0372—4x6′ Vinyl Loop Scraper Mat, Gray.

NSN: 7220-00-NIB-0377—3x5′ Loop-twist Outdoor Scraper Mat, Gray.

NSN: 7220-00-NIB-0383—3x5′ Wiper/Scraper Mat, Medium Duty, Recycled PET, Gray.

NSN: 7220-00-NIB-0391—3x5′ Indoor Wiper Mat, Recycled PET, Gray.

NSN: 7220-00-NIB-0397—2x3′ Ribbed Vinyl Anti-fatigue mat, Gray.

NSN: 7220-00-NIB-0399—2x3′ Industrial deck-plate, Anti-fatigue Mat, Black.

Coverage: A-List for the total government requirement as aggregated by the General Administration Services Administration.

NSN: 7220-00-NIB-0398—3x5′ Ribbed Vinyl Anti-fatigue mat, Gray.

NSN: 7220-00-NIB-0400—3x5′ Industrial deck-plate, Anti-fatigue Mat, Black.

NSN: 7220-00-NIB-0402—2x3′ Industrial deck-plate, Anti-fatigue Mat, Black.

NSN: 7220-00-NIB-0403—3x5′ Industrial deck-plate, Anti-fatigue Mat, Black.

NSN: 7220-00-NIB-0411—2x3′ Anti-fatigue Mat, Recycled content, Gray.

NSN: 7220-00-NIB-0412—3x5′ Anti-fatigue Mat, Recycled content, Gray.

NSN: 7220-00-NIB-0384—4x6′ Wiper/Scraper Mat, Medium Duty, Recycled PET, Gray.

NSN: 7220-00-NIB-0378—4x6′ Loop-twist Outdoor Scraper Mat, Gray.

NSN: 7220-00-NIB-0392—4x6′ Indoor Wiper Mat, Recycled PET, Gray.

NSN: 7220-00-NIB-0369—3x5′ Vinyl Loop Scraper Mat, Black.

NSN: 7220-00-NIB-0370—4x6′ Vinyl Loop Scraper Mat, Black.

NSN: 7220-00-NIB-0375—24″x32″ Finger-tip Mat, Medium-duty, Black.

NSN: 7220-00-NIB-0376—36″x72″ Finger-tip Mat, Medium-duty, Black.

NSN: 7220-00-NIB-0381—23″x32″ Finger-tip Mat, Heavy-duty, Black.

Coverage: B-List for the broad government requirement as aggregated by the General Administration Services Administration.

NPA: Wiscraft Inc.—Wisconsin Enterprises for the Blind, Milwaukee, WI.

Contracting Activity: Federal Acquisition Service, GSA/FAS Southwest Supply Center (QSDAC), Fort Worth, TX.

Barry S. Lineback,
Director, Business Operations.

[FR Doc. E9-28942 Filed 12-3-09; 8:45 am]

BILLING CODE 6353-01-P